DEPARTMENT OF COMMERCE

National Oceanic and Atmospheric Administration

[I.D. 091306B]

Marine Mammals; File No. 1034-1854

AGENCY: National Marine Fisheries Service (NMFS), National Oceanic and Atmospheric Administration (NOAA), Commerce.

ACTION: Notice; issuance of permit.

SUMMARY: Notice is hereby given that Markus Horning, Ph.D., Department of Fisheries & Wildlife, Oregon State University, Hatfield Marine Science Center, 2030 SE Marine Science Drive, Newport, OR 97365, has been issued a permit to conduct research on Weddell seals (Leptonychotes weddellii).

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: On June 29, 2006, notice was published in the Federal Register (71 FR 37060) that a request for a scientific research permit to take the species identified above had been submitted by the above-named individual. The requested permit has been issued under the authority of the Marine Mammal Protection Act of 1972, as amended (16 U.S.C. 1361 et seq.), and the regulations governing the taking and importing of marine mammals (50 CFR part 216).

Dr. Horning has been issued a 5-year permit to study aging in Weddell seals in Antarctica. Specifically, researchers will capture and sedate seals to attach instruments and take tissue samples to compare oxygen handling, body condition, muscle physiology, and foraging behavior of young and old adults. Incidental harassment and mortality may occur during these activities. Samples will be imported into the U.S. for analyses.

In compliance with the National Environmental Policy Act of 1969 (42 U.S.C. 4321 et seq.), a final determination has been made that the activity proposed is categorically excluded from the requirement to prepare an environmental assessment or environmental impact statement.

Dated: September 19, 2006.
P. Michael Payne,
Chief, Permits, Conservation and Education Division, Office of Protected Resources, National Marine Fisheries Service.

[FR Doc. E6-15682 Filed 9-25-06; 8:45 am]

BILLING CODE 3510-22-S